DEPARTMENT OF THE INTERIOR

National Park Service

[NPS-WASO-NRNHL-16429; PPWOCRADI0, PCU00RP14.R50000]

National Register of Historic Places; Notification of Pending Nominations and Related Actions

Nominations for the following properties being considered for listing or related actions in the National Register were received by the National Park Service before August 2, 2014. Pursuant to section 60.13 of 36 CFR part 60, written comments are being accepted concerning the significance of the nominated properties under the National Register criteria for evaluation. Comments may be forwarded by United States Postal Service, to the National Register of Historic Places, National Park Service, 1849 C St. NW., MS 2280, Washington, DC 20240; by all other carriers, National Register of Historic Places, National Park Service, 1201 Eye St. NW., 8th floor, Washington, DC 20005; or by fax, 202-371-6447. Written or faxed comments should be submitted by September 8, 2014. Before including your address, phone number, email address, or other personal identifying information in your comment, you should be aware that your entire comment—including your personal identifying information—may be made publicly available at any time. While you can ask us in your comment to withhold your personal identifying information from public review, we cannot guarantee that we will be able to do so.

Dated: August 6, 2014.
Alexandra Lord,
Acting Chief, National Register of Historic Places, National Historic Landmarks Program.

DELAWARE

Sussex County

Union Wesley Methodist Episcopal Church Complex, Powell Farm Rd., Clarksville, 14000617

FLORIDA

De Soto County

Pine Level, NW. Pine Level St., Arcadia, 14000618

GEORGIA

Walker County

Rock City Gardens, 1400 Patton Rd., Lookout Mountain, 14000619

ILLINOIS

Cook County

Portage Park Bungalow Historic District, Roughly bounded by W. Pensacola, N. Lockwood & N. Central Aves., W. Hutchinson St., Chicago, 14000620

Peoria County

Peoria Warehouse Historic District, Roughly along Adams, May, Oak, Persimmon, State, Walnut & Washington Sts., Peoria, 14000621

St. Clair County

Downtown East St. Louis Historic District, Portions of Collinsville, Missouri & St. Louis Aves., East St. Louis, 14000622

IOWA

Adair County

Greenfield Public Square Historic District, 102-362 Public Sq., 201-215 S. 1st St., 107-110 E. Iowa, Greenfield, 14000623

Allamakee County

Lansing Main Street Historic District, 100-401 Main, 1 blk. N. & S. on Front & 2nd & 190 John Sts., Lansing, 14000624

NORTH DAKOTA

McLean County

Freborg Homestead, 3231 2nd St. NW., Underwood, 14000625

TEXAS

Brewster County

Panther Junction Mission 66 Historic District, P.O. Box 129, Big Bend National Park, 14000626

Harris County

Melrose Building, 1121 Walker, Houston, 14000627

UTAH

Millard County

Princess Recreation Hall, The—Lynndyl LDS Meetinghouse, 98 E. Center St., Lynndyl, 14000628

[FR Doc. 2014-19923 Filed 8-21-14; 8:45 am]

BILLING CODE 4312-51-P